INTERNATIONAL TRADE COMMISSION

[Investigation No. 337-TA-1198]

Certain Spa Pumps, Jet Pump Housings, Pedicure Spas, Components Thereof, and Products Containing Same; Institution of Investigation

AGENCY: U.S. International Trade Commission.

ACTION: Notice.

SUMMARY: Notice is hereby given that a second amended complaint was filed with the U.S. International Trade Commission on April 6, 2020, under section 337 of the Tariff Act of 1930 on behalf of Luraco Health & Beauty, LLC of Arlington, Texas. A supplement was filed on April 21, 2020. The second amended complaint, as supplemented, alleges violations of section 337 based upon the importation into the United States, the sale for importation, and the sale within the United States after importation of certain spa pumps, jet pump housings, pedicure spas, components thereof, and products containing same by reason of infringement of certain claims in U.S. Patent No. 9,926,933 (“the '933 patent”); U.S. Patent No. D622,736 (“the '736 patent”); U.S. Patent No. D751,723 (“the '723 patent”); and U.S. Patent No. 10,451,071 (“the '071 patent”). The second amended complaint further alleges that an industry in the United States exists as required by the applicable Federal Statute.

The complainant requests that the Commission institute an investigation and, after the investigation, issue a general exclusion order, or in the alternative a limited exclusion order, and cease and desist orders.

ADDRESSES: The second amended complaint, as amended, except for any confidential information contained therein, may be viewed on the Commission's electronic docket (EDIS) at https://edis.usitc.gov. For help accessing EDIS, please email EDIS3He1p@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia Proctor, Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2019).

Scope of Investigation: Having considered the second amended complaint, the U.S. International Trade Commission, on May 5, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 18, and 50 of the '933 patent; claim 1 of the '736 patent; claim 1 of the '723 patent; and claims 1, 10, and 19 of the '071 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “spa pumps, jet pump housings, jet assemblies, spa jets, magnetic jet pumps, and pedicure spas used in nail and pedicure salons”;

(3) For the purpose of the investigation so instituted, the following are hereby named as parties upon which this notice of investigation shall be served:

(a) The complainant is: Luraco Health & Beauty, LLC, 1140 107th Street, Arlington, Texas 76011.

(b) The respondents are the following entities alleged to be in violation of section 337, and are the parties upon which the second amended complaint is to be served: GTP International Corp., 11090 Grader St., Dallas, Texas 75238.

Lac Long U.S., Inc., 7400 Hazard Ave., Westminster, CA 92683.

Lac Long Co. Ltd., Q-4, 8th St, Long Hau IP., Long Hau Ward, Can Giuoc Dist, Long An Prov., Vietnam.

Alfalfa Nail Supply, Inc., 11488 S. Choctaw Dr., Baton Rouge, LA 70815.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the second amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the Commission of the second amended complaint and the notice of investigation. Extensions of time for submitting responses to the second amended complaint and the notice of investigation will not be granted unless good cause therefor is shown.

Failure of a respondent to file a timely response to each allegation in the second amended complaint and in this notice may be deemed to constitute a waiver of the right to appear and contest the allegations of the second amended complaint and this notice, and to authorize the administrative law judge and the Commission, without further notice to the respondent, to find the facts to be as alleged in the second amended complaint and this notice and to enter an initial determination and a final determination containing such findings, and may result in the issuance of an exclusion order or a cease and desist order or both directed against the respondent.

By order of the Commission.
Issued: May 5, 2020.
Lisa Barton,
Secretary to the Commission.

[FR Doc. 2020-09960 Filed 5-8-20; 8:45 am]

BILLING CODE 7020-02-P